ENVIRONMENTAL PROTECTION AGENCY

[EPA-HQ-OPP-2006-0955; FRL-8881-2]

Registration; Cancellation Order for Rodenticide Products That Have Expired

AGENCY: Environmental Protection Agency (EPA).

ACTION: Notice.

SUMMARY: This notice announces EPA's cancellation order for certain rodenticide products containing the pesticide active ingredients brodifacoum, difenacoum and bromethalin, pursuant to section 3 of the Federal Insecticide, Fungicide, and Rodenticide Act (FIFRA) because as of June 4, 2011 these time-limited registrations expired. These are not the last products containing these pesticide active ingredients registered for use in the United States. Any distribution, sale, or use of the products subject to this cancellation order is permitted only in accordance with the terms of this order, including any existing stock provisions.

DATES: The expirations occurred on June 4, 2011.

FOR FURTHER INFORMATION CONTACT: Rusty Wasem, Pesticide Re-evaluation Division (7508P), Office of Pesticide Programs, Environmental Protection Agency, 1200 Pennsylvania Avenue, NW., Washington DC 20460-0001; telephone number: (703) 305-6979; e-mail address: wasem.russell@epa.gov.

SUPPLEMENTARY INFORMATION:

I. General Information

A. Does this action apply to me?

This action is directed to the public in general, and may be of interest to a wide range of stakeholders including environmental, human health, farmworker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2006-0955. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

II. What Action is the Agency Taking

This notice announces the June 4, 2011 expiration of certain products registered under section 3 of FIFRA. This notice serves as a cancellation order to provide for existing stocks of affected products. These registrations are listed in sequence by registration number in Table 1 of this unit.

Table 1—Registrations and Product Names
EPA Registration No. | Product name
47629-14* | Difenacoum Rat and Mouse Pellets (consumer use only).
47629-16* | Difenacoum Rat and Mouse Block (consumer use only).
47629-17* | Difenacoum Rat and Mouse Place Packs (consumer use only).
47629-11 | Bromethalin Rat & Mouse Block.
47629-13 | Bromethalin 0.01% Pellet.
7173-284 | Difethialone 12G Mini Blocks.
3282-89 | Fleeject.
3282-90 | D-Con Bait Station.
3282-91 | Mimas.
72159-11 | Gladiator All Weather Bait.
72159-12 | Agrisel Gladiator Place Pack Pellets.
* The registrations 47629-14, 47629-16, and 47629-17 were each registered for three different use patterns: (1) Consumer use, (2) Agricultural use, and (3) Professional use. Because the expiration date for 47629-14, 47629-16, and 47629-17 applied only to the consumer use, in regard to these three products, this cancellation order applies only to the consumer use.

Table 2 of this unit includes the name and address of record for the registrant of the products in Table 1 of this unit, by EPA company number. This number corresponds to the first part of the EPA registration numbers of the products listed in Table 1 of this unit.

Table 2—Registrants of Expired Rodenticide Products
EPA Company No. | Company name and address
47629 | Woodstream Corp., 69 North Locust St., P.O. Box 327, Lititz, PA, USA 17543-0327.
3282 | Reckitt Benckiser Inc., 399 Interspace Parkway, Parsippany, NJ, USA 07054-0225.
7173 | Liphatech Inc., 3600 W. Elm St., Milwaukee, WI, USA 53209.
72159 | Agrisel USA, Inc., P.O. Box 3528, Suwanee, GA, USA 30024.

III. Cancellation Order

Pursuant to FIFRA section 3, EPA hereby announces the June 4, 2011 expiration of the time-limited registrations identified in Table 1 of Unit II. The registrants listed above in Table 2, Unit II agreed at the time the registrations were issued to the June 4, 2011 expiration date for these registrations. Additionally, on May 27, 2011 EPA accepted Woodstream's request to amend its difenacoum products to narrow the scope of the time-limited registration so that the expiration date would apply only to the consumer use (Sublabel A), allowing the products to remain registered but only for agricultural and professional uses. All other registrations listed in Table 1 in Unit II expired on June 4, 2011 without exception. The Agency considers the expiration of a time-limited registration to be a cancellation under section 3 of FIFRA, for purposes of section 6(a)(1) of FIFRA. Any distribution, sale, or use of existing stocks of the canceled products identified in Table 1 of Unit II in a manner inconsistent with any of the Provisions for Disposition of Existing Stocks set forth in Unit IV., will be considered a violation of FIFRA section 12(a)(2)(K).

Pursuant to the terms set forth in Unit IV., EPA is allowing the sale, distribution, and use of existing stocks of the registrations subject to this cancellation order primarily because there are other similar rodenticide products that remain registered, and may lawfully be distributed, sold, and used until EPA completes cancellation proceedings pursuant to FIFRA section 6(b).¹ Although, EPA is allowing the sale, distribution, and use of existing stocks of the registrations subject to this cancellation order, the Agency retains the right to amend this order, if circumstances warrant. If the similar products are cancelled, it is likely that the Agency will consider modifying this cancellation order to mirror the treatment of existing stocks of the other cancelled products.

¹ In its June 7, 2011 press release, EPA announced that it is preparing to initiate cancellation proceedings against similar rodenticide registrations that have not expired. See http://yosemite.epa.gov/opa/admpress.nsf/1e5ab1124055f3b28525781f0042ed40/5689a230c1490219852578a80053a4b7!OpenDocument

IV. Provisions for Disposition of Existing Stocks

For purposes of this order, existing stocks are those stocks of pesticide products subject to the cancellation order that are currently in the United States and were packaged, labeled, and released for shipment prior to the effective date of the cancellation action. This cancellation order includes the following existing stock provisions:

All registrants identified in Table 2 in Unit II may continue to sell or distribute existing stocks of the products identified in Table 1 of Unit II released for shipment on or before June 4, 2011 bearing appropriate previously approved labeling until supplies are exhausted.

Persons other than the registrant may continue to sell or distribute existing stocks of the products identified in Table 1 of Unit II until supplies are exhausted, provided that products contain the appropriate, previously-approved labeling and that products were released by registrant on or before June 4, 2011. Any person may continue to use existing stocks of canceled products provided that such use is consistent with the terms of the previously approved labeling of the canceled products.

List of Subjects

Environmental protection, Pesticides and pests.

Dated: August 5, 2011.
Richard P. Keigwin, Jr.,
Director, Pesticide Re-evaluation Division, Office of Pesticide Programs.

[FR Doc. 2011-20572 Filed 8-16-11; 8:45 am]

BILLING CODE 6560-50-P